DEPARTMENT OF JUSTICE

Drug Enforcement Administration

Manufacturer of Controlled Substances; Notice of Registration

By notices dated March 11, 2003, and published in the Federal Register on April 2, 2003 (68 FR 16088), dated April 3, 2003, and published in the Federal Register on April 15, 2003 (68 FR 18262), dated June 20, 2003, and published in the Federal Register on July 8, 2003 (68 FR 40686), and dated October 7, 2003, and published in the Federal Register on October 29, 2003 (68 FR 61698), Cody Laboratories, Inc., 331 33rd Street, Cody, Wyoming 82414, made application by letters and by renewals to the Drug Enforcement Administration for registration as a bulk manufacturer of the basic classes of controlled substances listed below:

Drug | Schedule
Dihydromorphine (9145) | I
Amphetamine (1100) | II
Methamphetamine (1105) | II
Amobarbital (2125) | II
Pentobarbital (2270) | II
Secobarbital (2315) | II
Phenylacetone (8501) | II
Oxycodone (9143) | II
Hydromorphone (9150) | II
Diphenoxylate (9170) | II
Meperidine (9230) | II
Oxymorphone (9652) | II
Sufentanil (9740) | II
Fentanyl (9801) | II

On December 30, 2003, the firm requested that their registration be modified to reflect an address change to 601 Yellowstone Drive, Cody, Wyoming 82414. That modification was effected on January 8, 2004.

The firm plans to manufacture bulk materials for distribution to its customers.

No comments or objections have been received. DEA has considered the factors in title 21, United States Code, section 823(a) and determined that the registration of Cody Laboratories, Inc. to manufacture the listed controlled substances is consistent with the public interest at this time. DEA has investigated Cody Laboratories, Inc. to ensure that the company's registration is consistent with the public interest. This investigation has included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of controlled substances listed is granted.

Dated: February 4, 2004.
Laura M. Nagel,
Deputy Assistant Administrator, Office of Diversion Control, Drug Enforcement Administration.

[FR Doc. 04-3482 Filed 2-17-04; 8:45 am]

BILLING CODE 4410-09-M